DEPARTMENT OF COMMERCE

National Oceanic and Atmospheric Administration

50 CFR Part 648

[I.D. 072303A]

New England Fishery Management Council; Public Meeting

AGENCY: National Marine Fisheries Service (NMFS), National Oceanic and Atmospheric Administration (NOAA), Commerce.

ACTION: Public meeting.

SUMMARY: The New England Fishery Management Council (Council) will hold a 2-day Council meeting on August 13-14, 2003, to consider actions affecting New England fisheries in the exclusive economic zone (EEZ).

DATES: The meeting will be held on Wednesday and Thursday, August 13 and 14, 2003. The meeting will begin at 9:00 a.m. on Wednesday and 8:30 a.m. on Thursday.

ADDRESSES: The meeting will be held at the Peabody Marriott Hotel, 8A Centennial Drive, Peabody, MA 01960; telephone (978) 977-0010. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Wednesday and Thursday, August 13 and 14, 2003

Following introductions, the Council will consider final approval of management measures for inclusion in Amendment 10 to the Atlantic Sea Scallop Fishery Management Plan, based on public comments on the associated Draft Supplemental Environmental Impact Statement. The action may include alternatives to improve scallop yield through area rotation or other measures; to minimize impacts on essential fish habitat and bycatch; to revise the management and permitting process for scallop fishing with general category permits; to modify or introduce new procedures to collect fishery data; to conduct and fund habitat research through set-asides; and to make management changes through the framework adjustment process. The Council also will consider revising the scallop overfishing definition to be compatible with area rotation and long-term closures, as well as changing the fishing year. Any other outstanding business will be addressed before adjournment of the meeting.

Although other non-emergency issues not contained in this agenda may come before this Council for discussion, those issues may not be the subjects of formal action during this meeting. Council action will be restricted to those issues specifically listed in this notice and any issues arising after publication of this notice that require emergency action under section 305(c) of the Magnuson-Stevens Fishery Conservation and Management Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: July 25, 2003.
Bruce C. Morehead,
Acting Director, Office of Sustainable Fisheries, National Marine Fisheries Service.

[FR Doc. 03-19519 Filed 7-30-03; 8:45 am]

BILLING CODE 3510-22-S